DEPARTMENT OF DEFENSE

Department of the Air Force

Notice Is Given of the Names of Members of the Performance Review Board for the Department of the Air Force

AGENCY: United States Air Force, DOD.

ACTION: Notice.

SUMMARY: Notice is given of the names of members of the Performance Review Board for the Department of the Air Force.

DATES: Effective on November 1, 2016.

SUPPLEMENTARY INFORMATION: Pursuant to 5 U.S.C. 4314(c) (1-5), the Department of the Air Force (AF) announces the appointment of members to the AF's Senior Executive Service (SES) Performance Review Board (PRB). Appointments are made by the authorizing official. Each board member shall review and evaluate performance scores provided by the SES' immediate supervisor. Performance standards must be applied consistently across the AF. The board will make final recommendations to the authorizing official relative to the performance of the executive.

The members of the 2016 Performance Review Board for the U.S. Air Force are:

1. Board President—Gen Pawlikowski, Commander, Air Force Material Command

2. Honorable Disbrow, Under Secretary of the Air Force

3. Honorable Ballentine, Assistant Secretary of the Air Force for Installations, Environment, and Logistics

4. Lt Gen McLaughlin, Deputy Commander at United States Cyber Command

5. Lt Gen Bunch, Deputy, Office of the Assistant Secretary of the Air Force for Acquisition

6. Lt Gen Grosso, Deputy Chief of Staff for Manpower, Personnel and Services

7. Ms. Young, Executive Director, Air Force Materiel Command

8. Ms. Thomas, Deputy Chief Management Officer of the Air Force

9. Mr. McDade, Principal Deputy General Counsel of the Air Force

10. Mr. Shelton, Deputy Administrative Assistant to the Secretary of the Air Force

11. Ms. Costello, Principal Deputy Assistant Secretary of the Air Force (Acquisition)

12. Mr. Salvatori, Director, Capabilities Management Office

13. Mr. Bridges, Assistant Deputy Chief of Staff for Logistics, Engineering and Force Protection

14. Ms. Miller, Deputy Assistant Secretary of the Air Force for Installations

15. Mr. Geurts, Acquisition Executive, U.S. Special Operations Command

16. Ms. Nolta, Deputy Director, Air Force Staff

Additionally, all career status Air Force Tier 3 SES members not included in the above list are eligible to serve on the 2016 Performance Review Board and are hereby nominated for inclusion on an ad hoc basis in the event of absence(s).

FOR FURTHER INFORMATION CONTACT: Please direct any written comments or requests for information to Ms. Dawn Rayner, Deputy Director, Senior Executive Management, AF/DPS, 1040 Air Force Pentagon, Washington DC 20330-1040 (PH: 703-695-7677; or via email at dawn.m.rayner.civ@mail.mil.)

Bao-Anh Trinh,
Air Force Federal Register Liaison Officer.

[FR Doc. 2016-21056 Filed 9-2-16; 8:45 am]

BILLING CODE 5001-10-P